DEPARTMENT OF THE INTERIOR

National Park Service

[NPS-WASO-NRNHL-0412-10077; 2200-3200-665]

National Register of Historic Places; Notification of Pending Nominations and Related Actions

Nominations for the following properties being considered for listing or related actions in the National Register were received by the National Park Service before April 7, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by May 14, 2012. Before including your address, phone number, email address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARKANSAS

Cross County

Memphis to Little Rock Road—Strong's Ferry Segment, (Cherokee Trail of Tears MPS) Address Restricted, Jeanette, 12000274

Garland County

Humphrey's Dairy Farm, 1675 Shady Grove Rd., Hot Springs, 12000275

Jackson County

Campbell Station Cabin No. 2, (World War II Home Front Efforts in Arkansas, MPS) .5 mi. from jct. of US 67 & Campbell Ln., Campbell Station, 12000276

Union County

James, Randolph, House, 1212 N. Madison Ave., El Dorado, 12000277

Washington County

Mount Sequoyah Cottages, 808 & 810 E. Skyline Dr., Fayetteville, 12000278

Strengthen the Arm of Liberty Monument, 3215 N. Northhills Blvd., Fayetteville, 12000279

GEORGIA

Chattooga County

Summerville Commercial Historic District, Centered around Commerce St., Georgia, & Washington Aves., Summerville, 12000280

DeKalb County

Decatur Downtown Historic District, Roughly bounded by N. McDonough St., E. Howard Ave., Hillyer, & Commercial Sts., & E. Ponce De Leon Ave., Decatur, 12000281

MICHIGAN

Calhoun County

Camp Custer Veterans Administration Hospital—United States Veterans Hospital No. 100, (United States Second Generation Veterans Hospitals MPS), 5500 Armstrong Rd., Battle Creek, 12000282

MINNESOTA

Rice County

Faribault Woolen Mill Company, 1500 2nd Ave., NW., Faribault, 12000283

Sherburne County

Elk River Water Tower, Jackson Ave. & 4th St., NW., Elk River, 12000284

MONTANA

Lewis and Clark County

Unemployment Compensation Commission Building, 1315 Lockey Ave., Helena, 12000285

NEW YORK

Saratoga County

Saratoga National Historic Park, 648 NY 32, Stillwater, 12000286

St. Lawrence County

Hepburn Library of Colton, 84 Main St., Colton, 12000287

Suffolk County

ELVIRA (sloop), Newey Ln., Brookhaven, 12000288

SOUTH CAROLINA

Oconee County

Tamassee DAR School, 1925 Bumgardner Dr., Tamassee, 12000289

TEXAS

Upshur County

Upshur County Courthouse, 100 W. Tyler St., Gilmer, 12000290

WYOMING

Carbon County

Muddy Creek Archeological Complex, Address Restricted, Medicine Bow, 12000291

[FR Doc. 2012-10136 Filed 4-26-12; 8:45 am]

BILLING CODE 4312-51-P